ENVIRONMENTAL PROTECTION AGENCY

[EPA-HQ-OW-2002-0011; FRL 9904-76-OEI]

Information Collection Request Submitted to OMB for Review and Approval; Comment Request; Laboratory Quality Assurance Evaluation Program for Analysis of Cryptosporidium Under the Safe Drinking Water Act (Renewal)

AGENCY: Environmental Protection Agency (EPA).

ACTION: Notice.

SUMMARY: The Environmental Protection Agency has submitted an information collection request (ICR), “Laboratory Quality Assurance Evaluation Program for Analysis of Cryptosporidium under the Safe Drinking Water Act” (EPA ICR No. 2067.05, OMB Control No. 2040-0246) to the Office of Management and Budget (OMB) for review and approval in accordance with the Paperwork Reduction Act (44 U.S.C. 3501 et seq.). This is a proposed extension of the ICR, which is currently approved through January 31, 2014. Public comments were previously requested via the Federal Register (78 FR 54643) on September 5, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 12, 2014.

ADDRESSES: Submit your comments, referencing Docket ID Number EPA-HQ-OW-2002-0011, to (1) EPA online using www.regulations.gov (our preferred method), by email to ow-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Carrie Miller, Technical Support Center (TSC), Office of Ground Water and Drinking Water, (MS-140), Environmental Protection Agency, 26 West Martin Luther King Drive, Cincinnati, Ohio 45268; telephone number: 513-569-7919; fax number: 513-569-7191; email address: miller.carrie@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Under the Long Term 2 Enhanced Surface Water Treatment Rule (LT2ESWTR), EPA requires public water systems to use approved laboratories when conducting Cryptosporidium monitoring. The Code of Federal Regulations at 40 CFR 141.705(a) provides for approval of Cryptosporidium laboratories by “an equivalent” State laboratory certification program (i.e., equivalent to EPA's Laboratory Quality Assurance Evaluation Program). In the preamble to the LT2ESWTR as well as several other notices, EPA has described the criteria for approval of laboratories to analyze Cryptosporidium samples under the LT2ESWTR. Through today's notice, EPA is inviting comment on refinements to the information collection approach to support EPA's Laboratory Quality Assurance Program.

Form Numbers: None.

Respondents/affected entities: Interested States and Laboratories.

Respondent's obligation to respond: Required to obtain or retain a benefit.

Estimated number of respondents: 45 laboratories and 20 States/Territories.

Frequency of response: Annual.

Total estimated burden: 5,472 hours (per year). Burden is defined at 5 CFR 1320.3(b).

Total estimated cost: $803,774 (per year), includes $295,056 annualized capital or operation & maintenance (O&M) costs.

Changes in Estimates: There is an increase of 629 hours in the total estimated respondent burden compared with the ICR currently approved by OMB. Changes in burden have occurred due to inflation, changes in the respondent universe, re-evaluation of hours for tasks, re-evaluation of O&M costs, and improved demonstration of capability. There is also new burden from states integrating Cryptosporidium into their existing certification programs, taking over this responsibility from the EPA.

John Moses,
Director, Collection Strategies Division.

[FR Doc. 2014-00379 Filed 1-10-14; 8:45 am]

BILLING CODE 6560-50-P